ENVIRONMENTAL PROTECTION AGENCY

[FRL-7550-9]

Proposed Administrative Order on Consent Under the Comprehensive Environmental Response, Compensation, and Liability Act of 1980 Regarding the Sav-Cote Chemical Labs. Superfund Site, Lakewood, NJ

AGENCY: Environmental Protection Agency.

ACTION: Notice of proposed Administrative Order on Consent and opportunity for public comment.

SUMMARY: The United States Environmental Protection Agency (“EPA”) is proposing to enter into an administrative settlement to resolve claims under the Comprehensive Environmental Response, Compensation, and Liability Act of 1980, as amended (“CERCLA”), 42 U.S.C. 9601 et seq. In accordance with EPA guidance, notice is hereby given of a proposed administrative settlement pursuant to section 122(h)(1) of CERCLA concerning the Sav-Cote Chemical Labs. Superfund Site, located in Lakewood, New Jersey. Notice is being published to inform the public of the proposed settlement and provide an opportunity to comment. This settlement is intended to resolve the civil liability of certain responsible parties for response costs incurred by EPA at the Sav-Cote Chemical Labs. Superfund Site. CERCLA provides EPA the authority to settle certain claims for response costs incurred by the United States with the approval of the Attorney General of the United States.

The proposed settlement provides that the potentially responsible parties Mr. William Moskowitz and Mrs. Joan Moskowitz will pay $67,486.11, in addition to $607,513.89 already paid by Mr. William Moskowitz, in reimbursement of response costs incurred by EPA in performing a removal action to remove the contaminants and hazardous substances from the Sav-Cote Chemical Labs. Superfund Site in return for a covenant not sue under section 107 of CERCLA from the United States.

DATES: Comments must be provided on or before September 29, 2003.

ADDRESSES: Comments should be addressed to the U.S. Environmental Protection Agency, Office of Regional Counsel, 290 Broadway—17th Floor, New York, New York 10007-1866 and should refer to: In the Matter of Sav-Cote Chemical Labs. Superfund Site, William Moskowitz and Joan Moskowitz, Settling Parties, U.S. EPA Region II Docket No. CERCLA-02-2003-2020.

FOR FURTHER INFORMATION CONTACT: U.S. Environmental Protection Agency, Office of Regional Counsel, 290 Broadway—17th Floor, New York, New York 10007-1866, Attention: Muthu S. Sundram, Esq. (212) 637-3148.

SUPPLEMENTARY INFORMATION: A copy of the proposed administrative settlement agreement, as well as background information relating to the settlement, may be obtained in person or by mail from EPA's Region II Office of Regional Counsel, 290 Broadway—17th Floor, New York, New York 10007-1866.

Dated: August 19, 2003.
William McCabe,
Acting Director, Emergency & Remedial Response Division.

[FR Doc. 03-22160 Filed 8-28-03; 8:45 am]

BILLING CODE 6560-50-P